DEPARTMENT OF HOMELAND SECURITY

Coast Guard

33 CFR Part 100

[Docket No. USCG-2022-0571]

Special Local Regulations; Columbia River Cross Channel Swim, Columbia River, Pasco, WA

AGENCY: Coast Guard, DHS.

ACTION: Notification of enforcement of regulation.

SUMMARY: The Coast Guard will enforce special local regulations for the 3 Rivers Road Runners Columbia River Cross Channel Swim September 10, 2022, to provide for the safety of life on navigable waterways during this event. Our regulation for marine events within the Thirteenth Coast Guard District identifies the regulated area for this event in Pasco, WA. During the enforcement periods, the operator of any vessel in the regulated area must comply with directions from the Patrol Commander or any official patrol vessel. Official patrol vessels may consist of any Coast Guard, Coast Guard Auxiliary, state, or local law enforcement vessels assigned or approved by the Captain of the Port, Sector Columbia River.

DATES: The regulations in 33 CFR 100.1302 will be enforced on September 10, 2022 from 7:30 a.m. until 10:30 a.m.

FOR FURTHER INFORMATION CONTACT: If you have questions about this notification of enforcement, call or email LT Sean Murphy, Waterways Management Division, Marine Safety Unit Portland, Coast Guard; telephone 503-240-9319, email D13-SMB-MSUPortlandWWM@uscg.mil.

SUPPLEMENTARY INFORMATION: The Coast Guard will enforce special local regulations in 33 CFR 100.1302 for the Columbia River Cross Channel Swim regulated area from 7:30 a.m. to 10:30 a.m. on September 10, 2022. This action is being taken to provide for the safety of life on navigable waterways during this event. Our regulation for marine events within the Thirteenth Coast Guard District, § 100.1302, specifies the location of the regulated area for the Columbia River Cross Channel Swim which encompasses all navigable waters, bank-to-bank of the Columbia River in Pasco, Washington, between river mile 332 and river mile 335. During the enforcement period, as reflected in § 100.1302, if you are the operator of a vessel in the regulated area you must comply with directions from the Patrol Commander or any official patrol vessel.

In addition to this notification of enforcement in the Federal Register, the Coast Guard plans to provide notification of this enforcement period via the Local Notice to Mariners, and marine information broadcasts.

Dated: July 1, 2022.
M. Scott Jackson,
Captain, U.S. Coast Guard, Captain of the Port Columbia River.

[FR Doc. 2022-14741 Filed 7-11-22; 8:45 am]

BILLING CODE 9110-04-P